DEPARTMENT OF TRANSPORTATION

Federal Aviation Administration

14 CFR Parts 121, 125, 135 and 145

[Docket No. 28293 (FAA-2000-7952)]

RIN 2120-AF71

Service Difficulty Reports

AGENCY: Federal Aviation Administration (FAA), DOT.

ACTION: Final rule, notice of meeting.

SUMMARY: The Federal Aviation Administration (FAA) is issuing this notice to advise the public of a meeting to discuss public concerns with reporting requirements of the Service Difficulty Report (SDR) Final Rule, Docket No. 28293 (FAA-2000-7952)

DATES: The meeting will be held on December 11, 2000, 9 a.m. to 12 p.m. Arrangements for presentations must be made by December 6, 2000.

ADDRESSES: The meeting will be held at the FAA 3rd Floor Auditorium, 800 Independence Ave., SW, Washington, DC 20591.

FOR FURTHER INFORMATION CONTACT: Jose Figueroa, Federal Aviation Administration, AFS-300, 800 Independence Avenue, SW., Washington, DC 20591, telephone (202) 267-3797, fax (202) 267-5115.

SUPPLEMENTARY INFORMATION: The meeting will be held on December 11, 2000, from 9 a.m. to 12 p.m., at the FAA 3rd Floor Auditorium, Washington, DC. The agenda will include:

1. SDR Reporting Requirements

2. SDR Guidance Materials

Attendance is open to the interested public, but will be limited to the space available. The public must make arrangements by December 6, 2000, to present oral statements at the meeting. If you are in need of assistance or require a reasonable accommodation for the meeting please contact the person listed under the heading FOR FURTHER INFORMATION CONTACT. In addition, sign and oral interpretation can be made available at the meeting, as well as an assistive listening device, if requested 10 calendar days before the meeting. Arrangements may be made by contacting the person listed under the heading FOR FURTHER INFORMATION CONTACT.

Issued in Washington, DC, on November 16, 2000.
L. Nicholas Lacey,
Director, Flight Standards Service.

[FR Doc. 00-29792 Filed 11-29-00; 8:45 am]

BILLING CODE 4910-13-M